DEPARTMENT OF COMMERCE

U.S. Census Bureau

Proposed Information Collection; Comment Request; State and Local Government Finance Forms

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before March 31, 2014.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Jeff Barnett, Chief, Local Government Finance and Statistics Branch, Governments Division, U.S. Bureau of the Census, Washington, DC 20233-6800 (301-763-2787 or Jeffrey.L.Barnett@census.gov).

SUPPLEMENTARY INFORMATION:

I. Abstract

The Census Bureau plans to request clearance for the forms necessary to conduct the public finance program, which consists of an annual collection of information and a quinquennial collection in the census years ending in “2” and “7”. During the upcoming three years, we intend to conduct the 2014 through 2016 Annual Surveys of State and Local Government Finances.

The Annual Surveys of State and Local Government Finances collect data on state government finances and estimates of local government revenue, expenditure, debt, assets, and pension systems nationally and within state areas. The surveys include the Annual Survey of State Government Finances, the Annual Survey of Local Government Finances, and the Annual Survey of Public Pensions. Data are collected for all agencies, departments, and institutions of the fifty state governments and for a sample of all local governments (counties, municipalities, townships, and special districts). Data for school districts are collected under a separate survey. In the census year, equivalent data are collected from all local governments.

The Census Bureau is exploring the possibility of reducing the number and content of items collected on survey forms of local government finances in the intercensal years. The reduction in form item collection will reduce respondent burden as well as reduce the time needed to edit, analyze, and disseminate data for the Annual Survey of Local Government Finances. Any final decisions on form revisions will be included in the formal clearance package submitted to the Office of Management and Budget after the comment period associated with this notice has ended. In addition, any reduction in form item collection occurring in 2014-2016 will be restored in the next quinquennial Census of Governments in 2017.

The Census Bureau provides these data to the Bureau of Economic Analysis to develop the public sector components of the National Income and Product Accounts and to the Federal Reserve Board for use in the Flow of Funds Accounts. Other Federal agencies that make use of the data include the Council of Economic Advisors, the Government Accountability Office, and the Department of Justice. Other users include state and local governments and related organizations, public policy groups, researchers, and private sector businesses.

Statistics are produced as data files in electronic formats. The program has collected comprehensive and comparable governmental statistics since 1957.

II. Method of Collection

These surveys use multiple modes for data collection including Internet collection, mail canvass, telephone, and central collection. Canvass methodology primarily consists of a mail out/mail back questionnaire and Internet data collection. Other methods used to collect data and maximize response include collecting state and local government data through submitted financial audits, state financial reports, and comprehensive financial reports.

The Census Bureau developed central collection agreements with state and large local government officials to collect the data from their dependent agencies and report to the Census Bureau as a central respondent. These arrangements eliminate the need for a mail canvass of approximately 4,000 governmental units. The arrangements reduce burden by greatly reducing the number of people who have to complete a form as the data are collected from a centralized source instead of from multiple sources. Currently, the Census Bureau has central collection arrangements to collect local government data with 28 states and state government data from all 50 states. The Census Bureau continues to expand the conversion of paper submissions into electronic formats by collaborating with state and local governments regarding electronic reporting of central collection data, and encouraging electronic responses from individual governments.

III. Data

OMB Control Number: 0607-0585.

Form Number: F-5, F-11, F-12, F-12(S), F-13, F-25, F-28, F-29, F-32, and F-42.

Type of Review: Regular submission.

Affected Public: State and local governments.

Estimated Number of Respondents: 11,895.

Estimated Time per Response: 2.910 hours.

Estimated Total Annual Burden Hours: 34,616.

Estimated Total Annual Cost: $888,391.

Respondents Obligation: Voluntary.

Legal Authority: Title 13 U.S.C. 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 27, 2014.
Glenna Mickelson,
Management Analyst, Office of the Chief Information Officer.

[FR Doc. 2014-01834 Filed 1-29-14; 8:45 am]

BILLING CODE 3510-07-P